DEPARTMENT OF HEALTH AND HUMAN SERVICES

Administration for Community Living

Administration for Children And Families

Delegation of Authority

AGENCY: Administration for Community Living and Administration for Children and Families, HHS.

ACTION: Notice.

SUMMARY: Authorities under the Developmental Disabilities Assistance and Bill of Rights Act of 2000 are being delegated from the Assistant Secretary, Administration for Children and Families, to the Administrator, Administration for Community Living (ACL). This action is necessary to complete the transition of the Administration on Intellectual and Developmental Disabilities to the Administration for Community Living from the Administration for Children and Families, consistent with the Federal Register notice of reorganization as last amended, 77 FR 23250-23260, April 18, 2012.

FOR FURTHER INFORMATION CONTACT: Jason Bennett, Acting Executive Secretary, Administration for Community Living at 202-357-3408.

Under the authority vested in the Assistant Secretary for Children and Families by memorandum from the Secretary, “Delegation of Authority for the Developmental Disabilities Programs, The Developmental Disabilities Assistance and Bill of Rights Act of 2000, (The Act), Public Law 106-402, 114 Stat. 1677 (2000),” dated February 9, 2004, notice is hereby given that the Assistant Secretary for Children and Families has delegated to the Administrator for the Administration for Community Living the authorities under the Developmental Disabilities Assistance and Bill of Rights Act of 2000, 42 U.S.C. 15001 et seq., as amended, as they pertain to the functions assigned to the functions of the Administrator for the Administration for Community Living.

These authorities may be redelegated.

These authorities shall be exercised under the Department's policy on regulations and the existing delegation of authority to approve and issue regulations.

This delegation shall be exercised under financial and administrative requirements applicable to all Administration for Community Living authorities.

I hereby affirm and ratify any actions taken by the Administrator for the Administration for Community Living, or his or her subordinates, which involved the exercise of the authorities delegated herein prior to the effective date of this delegation.

This delegation will concurrently supersede all existing delegations of these authorities, except the delegation memorandum from the Secretary to the Assistant Secretary for Children and Families, dated February 9, 2004.

This delegation is effective immediately.

Dated: February 27, 2013.
George H. Sheldon,
Acting Assistant Secretary for Children and Families.

[FR Doc. 2013-06057 Filed 3-14-13; 8:45 am]

BILLING CODE 4154-01-P